FEDERAL RETIREMENT THRIFT INVESTMENT BOARD

Sunshine Act; Notice of Meeting

January 12, 2018, 3:30 p.m.

Agenda

Federal Retirement Thrift Investment Board Member Meeting, Telephonic.

STATUS: Closed to the public.

MATTER TO BE CONSIDERED: Information covered under 5 U.S.C. 552b (c)(9)(B).

CONTACT PERSON FOR MORE INFORMATION: Kimberly Weaver, Director, Office of External Affairs, (202) 942-1640.

Dated: January 11, 2018.
Dharmesh Vashee,
Deputy General Counsel, Federal Retirement Thrift Investment Board.

[FR Doc. 2018-00706 Filed 1-11-18; 4:15 pm]

BILLING CODE 6760-01-P